OFFICE OF THE UNITED STATES TRADE REPRESENTATIVE

Notice of Meeting of the Industry Sector Advisory Committee on Small and Minority Business (ISAC-14)

AGENCY: Office of the United States Trade Representative.

ACTION: Notice of a partially opened meeting.

SUMMARY: The Industry Sector Advisory Committee on Small and Minority Business (ISAC-14) will hold a meeting on April 22, 2002, from 9 a.m. to 3:45 p.m. The meeting will be opened to the public from 9 a.m. to 10:15 a.m. and from 12:30 p.m. to 3:45 p.m. The meeting will be closed to the public from 10:15 a.m. to 12:30 p.m.

DATES: The meeting is scheduled for April 22, 2002, unless otherwise notified.

ADDRESSES: The meeting will be held in Training Room A of the Ronald Reagan Federal Building located at 14th Street and Constitution Avenue, NW., Washington, DC.

FOR FURTHER INFORMATION CONTACT: Sylvia Prosak, (principal contact), or Pam Wilbur/Kelly Parsons (alternate) at (202) 482-4792, Department of Commerce, 14th Street and Constitution Avenue, NW., Washington, DC 20230 or myself on (202) 395-6120.

SUPPLEMENTARY INFORMATION: During the opened portion of the meeting the following agenda items will be discussed:

• Election of ISAC-14 Chair and Vice Chairs;

• Security and Ethics Briefings for ISAC-14 members;

• Briefing on congressionally led SME Trade Working Group;

• Update from U.S. Customs Service on current topics of interest to Small Business;

• Update on recent activities of the APEC Small Business Working Group;

• Update on the Free Trade Agreement of the Americas (FTAA); and,

• Update on the African Growth and Opportunity Act (AGOA).

Elizabeth A. Gianini,
Assistant U.S. Trade Representative for Intergovernmental Affairs and Public Liaison.

[FR Doc. 02-8331 Filed 4-4-02; 8:45 am]

BILLING CODE 3190-01-M